INTERNATIONAL TRADE COMMISSION

[Investigation No. TA-204-9]

Steel: Monitoring Developments in the Domestic Industry

AGENCY: United States International Trade Commission.

ACTION: Revised schedule for the subject investigation.

EFFECTIVE DATE: April 10, 2003.

FOR FURTHER INFORMATION CONTACT: Elizabeth Haines (202-205-3200), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: On March 5, 2003, the Commission established a schedule for the conduct of the subject investigation (68 FR 12380, March 14, 2003). The Commission is revising its schedule for the investigation as follows: the hearings will be held at the U.S. International Trade Commission Building at 9:30 a.m. on July 10, 2003 (stainless steel products), July 17, 2003 (carbon and alloy tubular products), July 22, 2003 (carbon and alloy flat products), and July 24, 2003 (carbon and alloy long products), and the deadlines for filing posthearing briefs are July 18, 2003 (for material covered at the hearing on July 10, 2003), July 25, 2003 (for material covered at the hearing on July 17, 2003), and August 1, 2003 (for material covered at the hearings on July 22 and 24, 2003).

For further information concerning this investigation see the Commission's notice cited above and the Commission's rules of practice and procedure, part 201, subparts A through E (19 CFR part 201), and part 206, subparts A and F (19 CFR part 206).

Authority: This investigation is being conducted under authority of section 204(a) of the Trade Act of 1974; this notice is published pursuant to § 206.3 of the Commission's rules.

Issued: April 11, 2003.
By order of the Commission.
Marilyn R. Abbott,
Secretary to the Commission.

[FR Doc. 03-9332 Filed 4-15-03; 8:45 am]

BILLING CODE 7020-02-P